DEPARTMENT OF AGRICULTURE

Rural Housing Service

Notice of Solicitation of Applications (NOSA) for the Section 533 Housing Preservation Grants for Fiscal Year 2016

AGENCY: Rural Housing Service, USDA.

ACTION: Notice; correction.

SUMMARY: This document corrects the closing deadline date that has changed since the initial Notice that appeared in the Federal Register on December 29, 2015, entitled “Notice of Solicitation of Applications (NOSA) for the 533 Housing Preservation Grants for Fiscal Year 2016”.

DATES: This document is effective January 20, 2016.

FOR FURTHER INFORMATION CONTACT: Jeaneane Shelton, jeaneane.shelton@wdc.usda.gov, (202) 720-5443, Finance and Loan Analyst, Multi-Family Housing Preservation and Direct Loan Division, STOP 0782, (Room 1263-S) U.S. Department of Agriculture, Rural Development, 1400 Independence Avenue SW., Washington, DC 20250-0782. All hard copy pre-applications and required documents (attachments) must be submitted to this address. (Please note these telephone numbers are not a toll-free numbers.)

SUPPLEMENTARY INFORMATION: In FR Doc. 2015-32784 of December 29, 2015 (80 FR 81279), make the following corrections:

1. On page 81279, the third column, second paragraph, fifth line and fourteenth line, under DATES: Remove closing deadline date February 12, 2016, and add closing deadline date March 15, 2016, in its place.

2. On page 81280, first column, the fourth paragraph, under Supplementary Information, Overview, eighth line for Dates, remove date February 12, 2016, and add date March 15, 2016.

Dated: January 13, 2016.
Tony Hernandez,
Administrator, Rural Housing Service.

[FR Doc. 2016-00957 Filed 1-19-16; 8:45 am]

BILLING CODE 3410-XV-P